POSTAL SERVICE

39 CFR Part 111

Implementation of Full-Service Intelligent Mail Requirements for Automation Prices

AGENCY: Postal Service™.

ACTION: Proposed rule.

SUMMARY: The Postal Service is proposing to revise Mailing Standards of the United States Postal Service, Domestic Mail Manual (DMM®) throughout various sections to modify eligibility requirements for mailers to obtain automation prices for First-Class Mail®, Standard Mail®, Periodicals®, and Bound Printed Matter® when mailing postcards, letters, and flats. Effective January 2014, use of “full-service” Intelligent Mail® would be required to obtain automation prices. Additionally, the 10/24 transitional barcoded tray label format would be eliminated and mailers would be required to use the 24-digit Intelligent Mail barcode (IMb™) format on tray, tub, and sack labels.

DATES: We must receive your comments on or before November 16, 2012.

ADDRESSES: Mail or deliver written comments to the Manager, Product Classification, U.S. Postal Service, 475 L'Enfant Plaza SW., Room 4446, Washington, DC 20260-5015. You may inspect and photocopy all written comments at USPS® Headquarters Library, 475 L'Enfant Plaza SW., 11th Floor N., Washington, DC by appointment only between the hours of 9 a.m. and 4 p.m., Monday through Friday by calling 1-202-268-2906 in advance. Comments and questions can also be emailed to mailingstandards@usps.gov using the subject line “full-service January 2014.”

FOR FURTHER INFORMATION CONTACT:

Ana Cikowski, email: ana.cikowski@usps.gov, phone: 202-268-8079.

Himesh Patel, email: himesh.a.patel@usps.gov, phone: 703-280-7498.

William Chatfield, email: william.a.chatfield@usps.gov, phone: 202-268-7278.

SUPPLEMENTARY INFORMATION: On April 20, 2012, the Postal Service published an advance notice of proposed rulemaking in the Federal Register (77 FR 23643-23647) to require use of full-service Intelligent Mail to obtain automation prices for First-Class Mail (FCM), Standard Mail, Periodicals, and Bound Printed Matter (BPM) when mailing postcards, letters, and flats.

Background

In January 2009, the Postal Service offered the mailing industry two Intelligent Mail options for automation discounts: basic-service and full-service. Currently, a large number of mailers are using these options and reaping significant benefits and value.

When using the full-service option, mailers are required to: Apply unique Intelligent Mail barcodes (IMb) to identify each letter, postcard, and flat mailpiece; individually meet the eligibility requirements for automation prices according to class and shape; apply unique Intelligent Mail tray barcodes (IMtb) on trays, tubs, and sacks; apply unique Intelligent Mail container barcodes (IMcb) on placards for containers, such as pallets; schedule appointments through Facility Access and Shipment Tracking (FAST®) if their mail is accepted at an origin facility and entered at a downstream USPS™ processing facility; and use an approved electronic method to transmit to the Postal Service mailing documentation and postage statements. If the mailing is being prepared or presented on behalf of another entity, the electronic documentation (eDoc) should include additional information to support the by/for mailing relationships. Effective January 2014, the requirements relative to the by/for relationships would be enforced.

We recognize that this proposal would require significant changes for mailers who currently benefit from automation discounts. Therefore, the Postal Service is proposing to implement initiatives to limit the impact on customers who enter small volume mailings, particularly for those customers who mail infrequently and have limited resources to adopt new mailing practices. Additional tools would be available for these mailers, and the associated, simplified requirements are described further in this notice.

Our proposal would continue the ongoing transformation of data visibility and evolution of technological innovations. Full-service Intelligent Mail combines the use of unique scan codes with the provision of electronic information regarding the makeup and preparation of mail, which provides high-value services and enables efficient mail processing.

The strategic vision of the Postal Service is to create 100 percent visibility in the mail stream by 2014. This vision would provide mailers with near real-time data that specify the location of mailpieces within the postal mail stream and the time of delivery for full-service mailpieces.

Full-service Intelligent Mail would offer numerous advantages to mailers and the Postal Service.

Advantages for Mailers:

• Mailers would be provided with comprehensive information on the status of mailings as they progress through the postal mail.

• Visibility would enable mailers to respond more effectively to customer inquiries on the status of valuable bills, statements, catalogs, and publications.

• Mailers would have access to free address correction and tracking information of mailpieces from mail entry to destination.

• The mailer's annual mailing fee for permits would be waived when postage statements contain 90 percent or more of full-service mailpieces.

• Mailers would be allowed to use the “Mail Anywhere” model, which allows the use of a single permit at any PostalOne!® site for mailings containing 90 percent or more of full-service mailpieces (applies to FCM, Standard Mail, Periodicals, and BPM).

• Mailers would be able to more effectively plan operations, assess the success of advertising campaigns, and improve customer interaction.

Advantages for the Postal Service

• Visibility into the flow of mail through the postal mail stream would enable enhanced diagnostics of service performance.

• Scan data on containers, trays, and mailpieces would allow the Postal Service to measure the number of hours and minutes between operations.

• Scan data would allow the Postal Service to identify operational bottlenecks and continue to improve service for commercial FCM, Standard Mail, and Periodicals.

• The ability to provide real-time alerts to postal operations would enable them to respond to and avoid potential service failures.

• Advance notification of volumes and makeup of commercial mail would enable improved resource planning.

• Accurate tracking of mail volumes as they move through the postal network would enable improved management and staffing of operations.

• Simplified mail acceptance processes would increase productivity and reduce costs.

• The ability to measure service performance would be available for each full-service mailer.

The mailer's use of full-service Intelligent Mail is an integral part of the Postal Service's ongoing strategy to provide cost-effective and service-responsive mailing services. Efficient use of postal resources can be achieved with advance information on content and makeup of the mail. As mail is processed and sorted, postal sorting equipment captures volume and destination information. The Postal Service has built and is refining systems that make information available to downstream postal facilities for use with operational planning. The planning data that is enabled through full-service mailings provides significant opportunities for improvements in efficiency and service performance. However, when a measurable percentage of mail (that is prepared and entered by large-volume commercial mailers and mail preparers) does not provide similar information, these benefits cannot be fully captured.

Full-service Intelligent Mail would also enable simplification of the current mail acceptance procedures. With the availability of full-service mailing data and unique identifiers, the business mail acceptance procedures would be streamlined by use of an automated verification process whereby allowing data to be captured on mail processing and other scanning equipment.

Since the introduction of the full-service Intelligent Mail requirements, over four years ago, the Postal Service has worked closely with mailers, software providers, and mail service providers to simplify, refine, and evolve full-service offerings. Thousands of mailers, software providers, and mail service providers have demonstrated the ability to meet the requirements for full-service Intelligent Mail.

Based on feedback provided by users of full-service Intelligent Mail, the use of full-service would transform the mailing industry. Unambiguous data would drive improvements across the broad spectrum of mailer and postal processes. Mailers who embrace full-service would thrive from continued use of full-service Intelligent Mail.

Transitioning to Full-Service Intelligent Mail

The Postal Service continues to develop enhancements, simplify existing tools, streamline the processes for mailers to prepare mailings, and provide ease of use for small and large mailers to transition to full-service Intelligent Mail. The Postal Service also recognizes that there maybe costs for mailers associated with converting to full-service Intelligent Mail.

In support of the proposal to transition to full-service Intelligent Mail and the elimination of automation discounts with the use of POSTNET™ barcodes, the Postal Service proposes to offer the following self-service tools, process enhancements, on-boarding simplifications, and postage incentives:

• Automated Business Reply Mail Tool—The USPS Automated Business Reply Mail® (ABRM) application is an online, self-service tool that allows Reply Mail customers to create domestic card-, letter-, and flat-size pieces of Business Reply Mail® (BRM™), Courtesy Reply Mail™ (CRM™), and Metered Reply Mail™ (MRM). ABRM also creates artwork for card- and letter-size pieces of Qualified Business Reply Mail™ (QBRM). In addition, ABRM provides the option to create a FIM & Barcode only for CRM and BRM artwork. The ABRM tool offers a number of features for Reply Mail customers, including the ability to: Design and create approved USPS camera-ready artwork with an Intelligent Mail barcode (IMb); place the barcode above the address block or in the barcode clear zone; add an image or logo related to the mailpiece; allow a third-party vendor or mail service provider to create artwork for clients through the ABRM tool; download artwork designs in PDF and EPS formats; and store mailpieces and logos in the ABRM library for future use (up to 100MB).

• Intelligent Mail Small Business Tool—Intelligent Mail for Small Business Mailers (IMsb) is an online, self-service tool which allows a mailer to produce a unique IMb. This online tool is accessible through the Business Customer Gateway. It is intended for small volume mailers who enter mailings consisting of 5,000 pieces or fewer pieces with an annual maximum threshold of 125,000 pieces. The tool may be used for FCM and Standard Mail letter or flat mailings. The tool allows the mailer to upload an address file which is then processed for Delivery Point Validation. Standardized addresses with Intelligent Mail barcodes are returned in a .pdf format, which may be printed directly on an envelope or label by the mailer. Mailers are able to print unique tray labels. Mailers using the tool may qualify for the full-service Mixed Automated Area Distribution Center (MXD AADC) and Mixed Area Distribution Center (MXD ADC) automation prices. Postage statements are submitted electronically through Postage Wizard®.

• Simplified On-Boarding Process—To provide ease of use for full-service mailers, the Postal Service proposes to enhance the Business Customer Gateway (BCG). These enhancements include the following: Streamlined sign-up process; simplified steps to request a service; automatic assignment of Mailer IDs (MIDs); redesigned user interface, resulting in easier navigation, consolidation of screens, and contextual help screens; simplification of the Business Service Administration (BSA) functionality; and restructured validation and linkage of mailing permits. In addition, the enhancement would allow for identification of mail service providers as well as the ability to request MIDs and services on behalf of customers. In the case of small business users (one user/one account), account creation would be streamlined by automatically assigning MIDs and multiple services at the same time. When these proposed simplifications and enhancements are finalized, detailed information will be communicated to the mailing industry. Other enhancements to the on-boarding process would include the following:

—The Mail.dat® and Mail.XML™error messages from the uploading of eDoc would be standardized to provide explanations of irregularities more clearly and allow mailers to take corrective action. This enhancement is underway and scheduled for a release.

—The PostalOne! dashboard is being enhanced by adding a functionality that would allow mailer-initiated job cancellations, resulting in the mailer's ability to cancel a job if none of the statements in the job have been finalized or checked in by a postal acceptance clerk. Also, if there is more than one statement in a job, all of the statements associated with the job would be cancelled through this user interface.

• Test Environment for Mailers—The Postal Service would develop a Test Environment for Mailers (TEM) certification process for software vendors and simplify the on-boarding process for mailers using certified software. Vendors would have the option to go through the TEM process by indicating which mailing capabilities are supported by their software, then completing test scenarios to demonstrate their software's functionality when generating and submitting eDoc files that vary by mail preparation requirements. These capabilities would be tracked by the Postal Service and made available through a published list consisting of authorized software for mailers. Potential software users could reference the list to evaluate if the listed software meets their mailing needs. Mailers would only be required to submit a single file to TEM when using software that meets the following criteria: The software is authorized for eDoc and full-service when passed through the TEM process for vendors for the capabilities that the vendor supports in production. Mailers using authorized software would submit a single file to TEM to demonstrate that they are able to use the software to generate accurate eDoc.

• Full-Service Technology Credit—In order to encourage mailers to convert to full-service Intelligent Mail, the Postal Service is proposing to offer a “Full-Service Technology Credit” (tech credit). This credit is intended to help offset the investment required to implement the necessary hardware and software infrastructure changes to support full-service mailings.

Eligibility Criteria

The mail volume of all “Permit Holders” and “Mailing Agents”, as identified on a postage statement, would be evaluated across qualifying permits for each business location/Customer Registration ID (CRID). Each CRID that exceeds an annual volume of 125,000 qualifying pieces would be eligible to redeem a tech credit. All CRIDs would be considered for a tech credit regardless of current full-service status.

To determine the level of qualifying mail volume for each business location/CRID, the following steps would be taken:

• Mail volume associated with each permit as defined in the “Permit Holder” and/or “Mailing Agent” fields would be evaluated. Permit types would include:

• Permit Imprint

• Metered

• OMAS Imprint

• OMAS Metered

• Precancelled Stamp

• Periodicals

• Ghost.

• The following full-service eligible mailings would be considered as qualifying mail volume:

• FCM automation letters, cards, and flats.

• Standard Mail automation letters and flats—includes IMb Enhanced Carrier Route (ECR), except saturation flats.

• Periodicals automation/barcoded letters and flats—includes ECR letters & flats.

• BPM barcoded flats.

• The mail volume for a one-year period would be used in the evaluation.

• To be considered for the tech credit, permits must have been opened and business locations (CRIDs) established.

• When determining a mailer's qualifying volume, the Postal Service will consider the “Permit Holder” and “Mailing Agent” volume for each CRID and use the higher of the two volumes to determine the amount of the tech credit.

The mail volume of the “Permit Holder” for each permit associated with a CRID would be aggregated.

The mail volume of the “Mailing Agent” for each permit associated with a CRID would be aggregated.

• Each CRID that exceeds 125,000 full-service eligible pieces in annual mail volume (total of all eligible volume from all eligible permits) would be awarded one tech credit as follows:

• 125,001-500,000 pieces = $2,000 postage credit.

• 500,001-2,000,000 pieces = $3,000 postage credit.

• 2,000,001 + pieces = $5,000 postage credit.

• Each business location would be eligible to redeem only one tech credit.

In the event there are multiple CRIDs identifying the same business location which have linked permits, the CRID with the highest eligible volume would receive the tech credit.

Notification Process

The Postal Service would provide advance notification to the industry regarding tech credit program status. This messaging would occur prior to the beginning of the promotion.

Redemption Process

The following credit redemption guidelines would be used:

• Any permit linked to a qualified CRID may redeem the tech credit as a postage credit in mailings that contain 90% or more full-service pieces.

• To apply this postage credit, the permit must be the paying permit in the mailing (identified as Permit Holder).

• The following permit types may be used:

○ Permit Imprint.

○ Additional Postage (ADDPOS).

○ OMAS Imprint.

○ OMAS Metered.

○ Metered.

○ Precancelled Stamp.

○ Periodicals.

• Mailers may redeem the tech credit through eDoc submission via Mail.dat or Mail.XML. Postal Wizard submissions would not be eligible.

• Upon submission of an eligible mailing, the tech credit would be automatically applied in full.

A partial tech credit amount could be applied to statements if the tech credit amount is greater than the total postage for the postage statement.

The remaining tech credit amount would be applied to subsequent statement(s).

• The tech credit redemption timeframe is proposed to run for a one-year period.

When final, further details regarding the “Full-Service Technology Credit” will be available on RIBBS™ at https://ribbs.usps.gov.

Summary of Comments and USPS Responses

The Postal Service received 110 comments from a variety of mailers and mailer associations. The comments that were received in addition to feedback from the Mailers Technical Advisory Council (MTAC), Postal Customer Council (PCC), and other outreach efforts, allowed the Postal Service to develop initiatives that should enable mailers to efficiently transition to full-service Intelligent Mail.

From the comments that were received, some mailers and mailer associations indicated that they look forward to embracing “full-service” Intelligent Mail, while others expressed concerns that were attributed to the five categories listed below:

1. Acceptance of Full-Service Intelligent Mail

Comments:

I think that full-service should be mandatory for the mailers.

Full-service Intelligent Mail is a streamlined benefit to mailers and adds a cost-savings to customers.

Shops that do not want to invest and upgrade to full-service Intelligent Mail probably should not be entering mail anyway.

As long as CONFIRM® tracking is provided, we are in acceptance of full-service Intelligent Mail.

I certainly hope that the effective date is fixed and that the Postal Service doesn't plan to change the date several times. Yes, there is a lot involved in moving to full-service; however, the Postal Service has provided advanced notice and ample time to the industry. Many mailers have already begun preparing for full-service.

We will be ready well in advance of January 2014.

As a requirement for automation discounts, I fully support the move to full-service Intelligent Mail. We have been successfully using full-service.

Our company chose to use a third-party vendor and have experienced ease with implementing full-service Intelligent Mail.

Our company is ready for full-service Intelligent Mail.

Postal Service Responses:

The Postal Service appreciates the positive feedback and is fully aware of the outstanding contributions rendered by the current users of full-service Intelligent Mail. These mailers have contributed to the collective knowledge-base and continue to receive numerous benefits from participating in the full-service offering. Mailers using full-service often espouse the significant value of additional data to drive change in their marketing strategies and have established additional avenues to acquire new customers. Due to the vital feedback provided by full-service participants, the Postal Service has a greater understanding of the needs of mailers and is working to simplify full-service requirements, which would potentially offer mailers a more user-friendly experience.

2. Cost/ROI

Comments:

The use of vendors to meet the full-service requirement is too costly.

Costs to convert to full-service would add up quickly.

It would take years to recoup the return on my investment.

In Postal Service industry, loans are hard to acquire.

The requirement for full-service would cause the loss of my job.

This new requirement for full-service would bankrupt my business.

Full-service is advantageous for USPS but does not benefit the mailer.

Postal Service Responses:

The Postal Service is continuing to research methods to simplify, streamline, and provide ease of use for small and large mailers to transition to full-service Intelligent Mail. The industry has been very responsive in providing feedback to help drive various strategies that ultimately will achieve full transition to the use of full-service.

Two primary areas of focus for the Postal Service are as follows:

—Continuing to build a strong visibility platform.

—Acquiring new users of full-service Intelligent Mail through the use of the newly proposed “Full-Service Technology Credit.”

The Postal Service believes that full-service offers features that would increase the value of the mail by providing mailers with more current and “clean” addresses, gives mailers access to information about mailings that would enhance marketing strategies, eliminate unnecessary paperwork, and assist mailers with developing better tools to acquire new revenue sources. Full-service diagnostic reports would provide mailers with visibility into the mail stream and convey pertinent information, such as the number of pieces delivered, forwarded, and or handled as undeliverable as addressed (UAA).

Another area of focus for USPS is simplification. In response to industry feedback, USPS is proposing simplification of full-service processes, which could result in lower costs for mailers when complying with full-service requirements. As described with this proposed rule, when entering full-service mailings, the Postal Service would support capabilities through advanced, thorough communications and provide simplified on-boarding processes.

A new address correction service (ACS) alternative process, full-service ACS™ fulfillment, would be in place to allow mailers to receive records immediately and the billing of non-qualifying records as they are identified. This fulfillment would provide the records in the OneCode ACS® format via the Electronic Product Fulfillment (EPF) server.

With simplification of full-service Intelligent Mail, mailers would experience many benefits as indicated in the USPS responses below.

The Postal Service strongly disagrees that the investment of full-service is not worth the benefits gained.

3. Complexity

Comments:

Provide me with the tools to effectively comply with this requirement.

I want to do it myself without the additional costs of a vendor.

Simplify the process.

Make it easy for mailers to transition.

Do not force me to use a vendor.

Do not phase out the price eligibility for basic-service Intelligent Mail.

Basic service is sufficient for my company; give mailers an option.

I'm finding it very difficult to receive passing grades on my full-service tray labels and pallet placards for Periodicals.

Postal Service Responses:

The Postal Service has taken all suggestions from the mailing industry under consideration regarding basic-service for Intelligent Mail and used these suggestions to simplify the full-service offering.

The Postal Service is streamlining and simplifying the full-service process for mailers.

Mailers who enter fewer than 10,000 pieces per mailing would be able to use simplified documentation and mail preparation requirements to qualify for full-service Intelligent Mail.

An IMsb tool was developed and would provide a simplified method for mailers to obtain a unique IMb for mail pieces and help mailers to meet the eDoc requirements for simple mailings.

The Postal Service would continue to provide IMtb for mailers who currently obtain tray labels from the Postal Service Label Print Center (LPC) in Topeka, Kansas.

Alternative methods of associating mailpieces into handling units and handling units into containers would be implemented. The Postal Service plans to extend and expand the use of logical trays/containers for all mailings when mailers provide at least one sibling physical record (tray/container) for each logical tray/container; mailpieces can be associated to the logical tray.

Information about visibility, start-the-clock, and mail data quality errors would be provided to the mail preparer or mail owner as identified in eDoc.

The complexity for mail service providers who work with multiple small mail owners would be reduced, because they would not have to track volume and the assigned IMb for each mail owner when the volume is below a specific threshold.

The on-boarding and submission processes for mailers would be simplified.

The risk of error from incorrect data would be mitigated by verifying information for MIDs and CRIDs prior to eDoc submission.

The Mail.dat and Mail.XML error messages from the uploading of eDoc would be standardized to provide explanations of irregularities more clearly, which would allow mailers to better understand the specific errors encountered and take corrective action.

The process for mailers to initiate job cancellations through the PostalOne! dashboard would be improved.

The Testing Environment for Mailers would be simplified.

Effective September 2012, USPS provided new options for the preparation of pallets, trays, and sacks of FCM and Standard Mail allowing mailers to: Place trays or sacks of residual single-piece FCM letters and flats on the origin sectional center facility (SCF) pallet; place trays or sacks of Standard Mail letters and flats paid at single-piece FCM prices on the mixed network distribution center (NDC) pallet; and combine FCM or Standard Mail with different payment methods in a single mailing and place trays of single-piece letters or flats on a specified pallet after USPS verification is completed. Additionally, the Postal Service is adding human-readable text to content identifier number (CIN) codes to accommodate use with single-piece mailpieces.

All pertinent USPS documents would be revised to clarify when container placards are required.

Containers with placards would not be required when mailings consist of the following:

—A small volume mailing of FCM, Standard Mail, Periodicals, and BPM entered directly at the dock of a USPS processing facility or Destination Delivery Unit (DDU), as follows: Less than 72 linear feet—6 full layers of letter trays; 24 linear feet—3 full layers of tubs; or 500 pounds of bundles or sacks.

—A small volume mailing of Standard Mail, Periodicals, and BPM entered at a BMEU, as follows: Less than 72 linear feet—6 full layers of letter trays; 24 linear feet—3 full layers of tubs; or 500 pounds of bundles or sacks.

—A FCM mailing entered at a BMEU not prepared under a Customer Supplier Agreement (CSA).

—Mail that is not presented in a container with an IMcb and is entered at a facility other than a BMEU may not receive a Start-the-Clock scan and would be excluded from service measurement.

4. Clarity and Awareness

Comments:

January 2014 is too soon to negotiate budget allowances.

PostalOne! is not ready to handle all full-service mailings.

The Postal Service is not leading the way.

The tools for reports and tracking capabilities must be improved quickly.

Postal Service Responses:

As described earlier in this proposed rule, plans are underway to enhance the BCG by providing a more user-friendly experience.

Mailers entering simple mailings of fewer than 10,000 mailpieces would not be required to provide information on mailpieces that are nested in trays and containers. Additionally, mailers would be allowed to use the same unique piece sequence ID on all mailpieces within a mailing.

Additionally, the Postal Service plans to use an IMb on all mailings and internal operational printing.

The Postal Service is investing in short- and long-term enhancements to its PostalOne! infrastructure and conducting ongoing focus groups and workshops to glean suggestions from the mailing industry on future improvement opportunities.

5. General Comments

Comments:

If automation and full-service Intelligent Mail barcodes are required, it is essential that USPS communicates to the industry its plans around consequences for mail quality errors.

As specified with MERLIN, would the existing automation error thresholds and policies still apply for full-service mailings?

What price consequences would be assessed for mailings that do not meet full-service qualifications?

How would full-service failures be assessed and monitored?

Where would the determination of full-service compliance be made—at induction or further downstream?

Would mail service providers be permitted to rework mail that is not deemed in compliance with full-service requirements?

Postal Service Responses:

Concerning mail quality errors, the Postal Service would allow adequate time for mailers to review and become familiar with mail data quality reporting and take corrective action.

We are working with the mailing industry to define and develop a seamless acceptance process that would leverage the data which is provided through full-service and eDoc.

The Postal Service endeavors to streamline the acceptance and verification process.

Until the Postal Service fully embraces a seamless environment, existing thresholds and policies would be maintained. Any changes to those thresholds would be defined collaboratively with the industry to mutually establish and refine policies.

The Postal Service would continue to work with the industry to develop procedures and expect that monitoring would be provided through MicroStrategy reports designed specifically to provide mailers and the Postal Service with the necessary data to understand mail quality issues.

The seamless concept would allow verification to be performed at points of induction through data captured from handheld scanners and mail processing equipment.

Concerning the mailer's ability to rework mail, under seamless acceptance, data captured at induction and from mail processing equipment would be validated against eDoc and reported through seamless acceptance reporting.

Comment:

To handle post list processing, this transition would cost mail houses additional funds in software upgrades. Currently, the mail house is able to change the postage statements after the job is produced (such as tray or sack counts) if what was used is different than what the qualification report requires. However, when full-service is implemented, unless mailers have post-processing software, we would not be able to change the Mail.dat file after the mail has been prepared. The Post Office should provide this post-processing capability.

Postal Service Response:

The Postal Service is aware of the mailer's need to modify files after submission, and we have been working with industry representatives to identify options to make this available. A new functionality would be deployed to allow the mailer to delete a non-finalized job from the PostalOne! dashboard and resubmit the file without having to rename the file.

Comment:

The switch to full-service is an onerous task that requires mailer service providers to submit a large amount of additional data. Also, it requires each of my customers to have their own CRID. Today, my customers come to me specifically, because they do not want to have to deal with the Post Office and all of the requirements that are in place to prepare a proper mailing. If mail owners are required to get involved with the process of applying for ID numbers and accounts with the Post Office, then you are reducing the value of the mail houses, which are your most valuable partners.

Postal Service Response:

The Postal Service has several options for acquisition of CRIDS/MIDs in bulk by a mail service provider using an automated XML process or manual Excel-based request. Our RIBBS Web page has documents to assist in determining which option would be more suitable. A link to the page is provided below. Additionally, the Postal Service continues to explore options to simplify the use of full-service Intelligent Mail and evaluate the concerns of mailers. Visit our RIBBS Web page at https://ribbs.usps.gov/index.cfm?page=intellmailmailidapp.

Comment:

The full-service Intelligent Mail TEM is a long, time-consuming process. I am significantly concerned about the effort and time commitment to transition to full-service, while still running my business.

Postal Service Response:

The Postal Service has recently taken action to simplify the testing requirements for individual mailers. A process was developed to certify a vendor's software based on specific capabilities for which the software vendor has applied. The vision is for individual mailers/users of the certified software to collapse multiple submissions into a single submission to access the testing environment. Examination of the actual data submitted for the initial physical mailings would return feedback to the mailer on the verifications performed.

Requirements for Full-Service Intelligent Mail

Intelligent Mail Barcodes

• Mailpiece barcode. The IMb on letter and flat mailpieces encodes up to 31-digits of mailpiece data into 65 vertical bars. The IMb contains additional fields that encode ancillary services, identify the mailer and the class of mail, and allow unique numbering/serialization of the mailpiece. The Postal Service would issue a unique MID to each mailer using full-service Intelligent Mail, and the USPS-assigned MID must be included in the IMb. Except with simple mailings as described above in this notice, mailers are required to uniquely number each mailpiece in a mailing and not reuse any of the numbers for a period of 45 days from the date of mailing.

• Tray barcode. An IMtb is required on letter trays, flat trays and sacks. Unlike the 10-digit tray barcode containing only routing information that is used currently, the 24-digit IMtb includes additional fields to identify the mailer and uniquely number each tray, tub, or sack. The mailer's USPS-assigned MID must be included in the IMtb. Mailers are required to uniquely number each tray or sack in a mailing and not reuse any of the numbers for a period of 45 days from the date of mailing. Pieces inside each tray must be electronically linked or nested to the IMtb.

• Container barcode. An IMcb is required on all containers used to transport and enter mail at postal processing centers, such as pallets, all purpose containers (APCs), rolling stock, and gaylords, except certain small volume and FCM mailings. This 21-digit IMcb includes fields to identify the mailer and uniquely number each container. Mailers must include their USPS-assigned MID in the IMcb. Mailers are required to uniquely number each container in a mailing and not reuse any of the numbers for a period of 45 days from the date of mailing. Trays inside the container must be electronically linked or nested to the IMcb. When automation mailings are not required to be containerized (too small to require a pallet or rolling stock), an IMcb would not be required on placards nor would submission of IMcb records be required in eDoc.

Intelligent Mail Tray Barcodes

Starting in January 2014, when mailings are entered and full-service automation prices are claimed, the use of tray labels bearing 24-digit IMtb would be required. An IMtb contains the following information:

• ZIP CodeTM: A 5-digit ZIP Code used to identify the destination of the tray or sack.

• Content Identifier Number (CIN): Describes tray or sack content, including presort level and class.

• Content Label Source (L SRC): Designates whether tray, tub, or sack contents are automation compatible.

• Mailer ID: A 6- or 9-digit MID assigned by the Postal Service for use in the Intelligent Mail barcodes.

• Serial Number: A mailer would use this field to uniquely identify individual trays, tubs, or sacks. If a 6-digit MID is assigned, the mailer would have 8 digits to uniquely identify the handling units. If a 9-digit MID is assigned, the mailer would have 5 digits to identify the handling units. To participate in the full-service option, the Serial Number field is populated with a unique number for each handling unit (tray or sack) in the mailing. For 45 days from the date of mailing, these serial numbers must remain unique.

• Label Type: Indicates MID field length.

To access automation prices through the full-service option, mailers would be required to populate all fields in the IMtb and include a unique serial number.

To view the final specifications and detailed information on the IMtb, access RIBBS at http://ribbs.usps.gov/.

Intelligent Mail Container Barcodes

Mailers typically label containers of mail deposited with the Postal Service. For full-service, mailers must apply a unique IMcb to container placards and keep the barcode unique for at least 45 days from the date of mailing. This IMcb includes fields to identify the mailer and uniquely identify each container. To comply with the full-service standards, mailers must apply placards to all containers such as pallets, APCs, rolling stock, and gaylords.

The IMcb has two formats. The format a mailer uses depends upon the MID assigned by the Postal Service.

The IMcb label specifications are available in two physical sizes for the IMcb barcode labels: One is the 8″ min x 11″ format available on RIBBS, and the other size is the 4″x7″ self adhesive format, also available on RIBBS.

• Application ID (Appl ID): “99” indicates the source of the barcode.

• Type Indicator: “M” indicates a mailer-generated barcode.

• Mailer ID: A 6- or 9-digit MID assigned by the Postal Service for use in the IMb.

• Serial Number: A mailer would use this field to uniquely identify individual containers. If a 6-digit MID is assigned, the mailer would have 12 digits to uniquely identify the containers. If a 9-digit MID is assigned, the mailer would have 9 digits to identify the containers. To participate in the full-service option, the serial number field is populated with a unique number for each container in the mailing. These unique serial numbers must not be reused for 45 days from the date of mailing. To access the automation prices through the full-service option, mailers would be required to populate all fields in the IMcb to include a unique serial number. To view the final specifications and detailed information on the IMcb, access RIBBS at http://ribbs.usps.gov.

Appointment Scheduling

All mailers whose mail is verified at a DMU/BMEU and transported by the mailer or their agent to a USPS processing facility, including mailings entered at origin and plant-verified drop shipments (PVDS), would be required to schedule appointments using the FAST system at postal facilities where applicable. Mailers may schedule appointments online using the FAST Web site or they may submit appointment requests through PostalOne! FAST Web Services using the Mail.XML specification. For improved service performance measurement, visibility, and operational planning, the Postal Service recommends that mailers link their IMcb to FAST appointments. Mailers must provide container barcodes as part of the stand-alone content creation, appointment creation, and update processes through PostalOne! FAST Web Services. Mailers can also receive close-out data through FAST online reports or PostalOne! FAST Web Services.

Electronic Documentation

By submitting documents electronically, mailers are able to manage mailing data more effectively and avoid the creation of paper-based forms. Additionally, submission of documents electronically enables the Postal Service to capture efficiencies.

When entering full-service mailings, eDoc is required. A mailer's eDoc identifies the unique IMb applied to each mailpiece, tray, tub, sack, and container; it describes how mailpieces are linked to handling units, such as trays, tubs, and sacks; and identifies how mailpieces and handling units are linked to containers. Additionally, eDoc identifies spoilage or shortage of pieces in a mailing, the preparer of the mailing, and the mailer for whom the mailing is prepared (i.e., Mail Owner). Mail Owner identification is required for all pieces in a full-service mailing.

The eDoc is transmitted to PostalOne! and used for verification, acceptance, payment, service performance measurement, and induction planning and processing. Also, PostalOne! can use this information to automate postage statement generation and payment processing. PostalOne! has the capability to provide mailers with access to their mailing documentation and financial transaction information 24 hours a day, 7 days a week. The PostalOne! system translates the customer-generated electronic information into postage statements and supporting documentation, such as qualification and container reports, which are used for verification, acceptance, and induction processes.

Mailings With Fewer Than 10,000 Pieces

Except mailings consisting of letter- and flat-size Periodicals and BPM flats, full-service mailings with fewer than 10,000 pieces do not require the submission of eDoc—only an electronic postage statement is required. These mailings may be electronically submitted using Postal Wizard, Mail.XML, or Mail.dat.

For mailings of fewer than 10,000 pieces, when postage is affixed to each piece at the correct price or each piece is of identical weight and the mailpieces are separated by price, the serial number field of each IMb can be populated with a mailing serial number that is unique to the mailing but common to all pieces in the mailing. This unique mailing serial number must not be reused for a period of 45 days from the date of mailing. Except mailers of full-service Periodicals letters and flats and BPM flats, mailers who enter such mailings are not required to submit eDoc for the full-service option, only an electronic postage statement. Unique mailing serial numbers must be populated in the Postal Wizard entry screen field or in the Mail.XML messages. Mailers must populate the serial number field of all Intelligent Mail tray or sack labels, and Intelligent Mail container barcodes (when mailings are containerized) with the unique mailing serial number. Postal Wizard cannot be used with full-service Periodicals and BPM mailings, even if under 10,000 pieces; Postal Wizard does not support adding the MID or the serial number(s) for these mailings. It should also be noted, for full-service mailings using the Postal Wizard, only the owner of the mailing permit will receive start-the-clock feedback.

Mailings With 10,000 Pieces or Greater

When full-service mailings with 10,000 pieces or greater are entered, mailers are required to use Mail.dat or Mail.XML to electronically transmit mailing documentation and postage statements. eDoc must contain information about the unique ID that is applied to the mailpieces, placards, trays, tubs, sacks, and containers. Also, the information must describe how mailpieces are linked to handling units and how mailpieces and handling units are linked to containers.

In addition, when mailings are co-palletized, co-mingled, or combined in-house or at a different plant, eDoc that outlines the linkage among associated containers, trays, tubs, and sacks would be required.

Submitting eDoc

The three methods for submitting eDoc are described as follows:

Mail.dat: Mail.dat serves as a medium for electronic data exchange and is part of the overall PostalOne! application and provides customers the capability to electronically submit mailing documentation over a secure connection. Mail.dat uses industry-standard electronic file formats to facilitate communication. Mailing information is used to generate documentation to support verification, payment, and induction processes. Mail.dat specifications are available on RIBBS at http://ribbs.usps.gov.

Mail.XML: The Mail.XML is an overarching communication specification that allows mailers to communicate eDoc and manage appointments with the Postal Service, while enabling it to provide quality, address correction, induction, and visibility information back to mailers. Mail.XML can also be used to communicate between mailers and consolidators/transporters. Mail.XML is part of the overall PostalOne! application that enables a just-in-time connection (send information when you are ready to share). The Mail.XML Web Service uses a Simple Object Access Protocol (SOAP) to submit information in an Extensible Markup Language (XML) format that ensures data are sent and received by applications written in various languages and deployed on various platforms. Mailing information is sent through Mail.XML to the PostalOne! system where the information is stored and used to generate documentation to support verification and payment. Mail.XML specifications are available on RIBBS at http://ribbs.usps.gov.

Postal Wizard: The Postal Wizard is an online tool that allows mailers to securely enter their postage statement information using PostalOne! mailers may easily access Postal Wizard through the Business Customer Gateway at https://gateway.usps.com.

Postal Wizard verifies completed information for an online postage statement and automatically populates the permit holder section of the postage statement based on the account number provided. It guides the user through items needed to complete the statement. Postal Wizard automatically calculates postage and validates submitted information. Once a postage statement is completed online, the electronic statement is submitted directly to the acceptance unit.

For detailed information about electronic mailing options, access RIBBS at http://ribbs.usps.gov.

Additional Mailing Information Available With Full-Service

Information on mailpiece quality and visibility is available through the online USPS BCG tool and PostalOne! Web Services (Mail.XML). Mailers can query the information or obtain an automated subscription. As part of the full-service program, the Postal Service will be making the following information available: Container and tray induction and processing scans, IMb tracing bundle and piece scans; start-the-clock information; address correction data; and quality and documentation error reporting information.

Intelligent Mail Barcode Embedded Data:

• Full-service unique Intelligent Mail barcodes must be embedded with the following data: Barcode Identifier and OEL information (if printed on the mailpiece), Service Type Identifier (showing class of mail), Mailer Identifier, Unique Serial Number, and Delivery Point Routing Code (11-digit).

• Barcode Identifier: The barcode ID is a 2-digit field reserved to encode the presort identification printed in human-readable form on the Optional Endorsement Line (OEL). Should be left as “00” if an OEL is not printed on the mailpiece, except for automation-rate eligible flat mail with an optional endorsement line, where the IMb must contain OEL coding corresponding to the correct sortation level of each piece.

• Service Type Identifier: The service type identifier (STID) indicates class of mail and requested special services such as scan information or ACS.

• Mailer Identifier: The MID is a mandatory 6- or 9-digit identifier of the mail owner/mailing agent that is assigned by the Postal Service based upon documented historical mail volume of the owner/agent.

• Serial Number: The serial number is complementary with the MID for a combined total of 15 digits, which leaves the mailer/agent with 6 or 9 digits for unique mailpiece identification. A combination of the MID and serial number within a mail class must not be reused within 45 days of the mailing date.

• Delivery Point Routing Code: The delivery point routing code describes the 5-, 9-, or 11-digit field that identifies the delivery ZIP Code data in the address.

To view final specifications and detailed information on the IMb, access RIBBS at http://ribbs.usps.gov.

Although the USPS is exempt from the notice and comment requirements of the Administrative Procedure Act [5 U.S.C of 553(b), (c)] regarding proposed rulemaking by 39 U.S.C. 410(a), we invite public comments on the following proposed revisions to Mailing Standards of the United States Postal Service, Domestic Mail Manual (DMM), incorporated by reference in the Code of Federal Regulations. See 39 CFR Part 111.

List of Subjects in 39 CFR Part 111

Administrative practice and procedure, Postal Service.

Accordingly, 39 CFR Part 111 is proposed to be amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Letters and Cards

* * * * *

230 First-Class Mail

233 Prices and Eligibility

* * * * *

5.0 Additional Eligibility Standards for Automation First-Class Mail Letters

5.1 Basic Standards for Automation First-Class Mail Letters

[Revise the introductory text of 5.1 as follows:]

All pieces in a First-Class Mail automation mailing must meet full-service standards in 705.24.0 and:

* * * * *

[Revise item 5.1e as follows:]

e. Bear an accurate unique Intelligent Mail barcode encoded with the correct delivery point routing code, matching the delivery address and meeting the standards in 202.5.0 and 708.4.0, either on the piece or on an insert showing through a window.

* * * * *

[Delete current 5.2 in its entirety and renumber current 5.3 through 5.5 as new 5.2 through 5.4.]

* * * * *

240 Standard Mail

243 Prices and Eligibility

* * * * *

6.0 Additional Eligibility Standards for Enhanced Carrier Route Standard Mail Letters

6.1 General Enhanced Carrier Route Standards

* * * * *

6.1.2 Basic Eligibility

All pieces in an Enhanced Carrier Route or Nonprofit Enhanced Carrier Route Standard Mail mailing must:

* * * * *

[Revise item 6.1.2g as follows:]

g. Meet the requirements for automation letters in 201.3.0 and bear an accurate unique Intelligent Mail barcode encoded with the correct delivery point routing code matching the delivery address and meeting the standards in 202.5.0 and 708.4.0, except for letters with simplified addresses or as provided in 6.1.2h. Letters mailed at automation carrier route (basic, high density, or saturation) prices must be in a mailing entered under full-service Intelligent Mail standards in 705.24.0. Pieces prepared with a simplified address format are exempt from the full-service, automation-compatibility, and barcode requirements.

* * * * *

6.4 High Density Enhanced Carrier Route Standards

6.4.1 Additional Eligibility Standards for High Density Prices

[Revise the text of 6.4.1 as follows:]

In addition to the eligibility standards in 6.1, high density letter-size mailpieces must be in a full carrier route tray or in a carrier route bundle of 10 or more pieces prepared under 245.6.0. Except for pieces with a simplified address, only nonautomation high density letter prices apply when mailpieces are not: Barcoded with an Intelligent Mail barcode, automation-compatible, and part of a full-service mailing under 705.24.0.

* * * * *

6.5 Saturation ECR Standards

6.5.1 Additional Eligibility Standards for Saturation Prices

[Revise the text of 6.5.1 as follows:]

In addition to the eligibility standards in 6.1, saturation letter-size mailpieces must be in a full carrier route tray or in a carrier route bundle of 10 or more pieces prepared under 245.6.0. Except for pieces with a simplified address, only nonautomation saturation letter prices apply when mailpieces are not: barcoded with an Intelligent Mail barcode, automation-compatible, and part of a full-service mailing under 705.24.0.

* * * * *

7.0 Eligibility Standards for Automation Standard Mail

7.1 Basic Eligibility Standards for Automation Standard Mail

[Revise the introductory text of 7.1 as follows:]

All pieces in a Regular Standard Mail or Nonprofit Standard Mail automation mailing must meet full-service standards in 705.24.0 and:

* * * * *

[Revise item 7.1e as follows:]

e. Bear an accurate unique Intelligent Mail barcode encoded with the correct delivery point routing code, matching the delivery address and meeting the standards in 202.5.0 and 708.4.0, either on the piece or on an insert showing through a window.

* * * * *

[Delete current 7.2 in its entirety and renumber current 7.3 through 7.6 as new 7.2 through 7.5.]

* * * * *

300 Commercial Flats

* * * * *

330 First-Class Mail

333 Prices and Eligibility

* * * * *

5.0 Additional Eligibility Standards for Automation First-Class Mail Flats

5.1 Basic Standards for Automation First-Class Mail

[Revise the introductory text of 5.1 as follows:]

All pieces in a First-Class Mail automation flats mailing must meet full-service standards in 705.24.0 and:

* * * * *

[Revise item 5.1e as follows:]

e. Bear an accurate unique Intelligent Mail barcode encoded with the correct delivery point routing code, matching the delivery address and meeting the standards in 302.5.0 and 708.4.0, either on the piece or on an insert showing through a window.

* * * * *

[Delete current 5.2 in its entirety and renumber current 5.3 through 5.5 as new 5.2 through 5.4.]

* * * * *

340 Standard Mail

343 Prices and Eligibility

* * * * *

7.0 Additional Eligibility Standards for Automation Standard Mail Flats

7.1 Basic Eligibility Standards for Automation Standard Mail

[Revise the introductory text of 7.1 as follows:]

All pieces in a Regular Standard Mail or Nonprofit Standard Mail automation mailing must meet full-service standards in 705.24.0 and:

* * * * *

[Revise item 7.1e as follows:]

e. Bear an accurate unique Intelligent Mail barcode encoded with the correct delivery point routing code, matching the delivery address and meeting the standards in 302.5.0 and 708.4.0, either on the piece or on an insert showing through a window.

* * * * *

[Delete current 7.2 in its entirety and renumber current 7.3 through 7.4 as new 7.2 through 7.3.]

* * * * *

360 Bound Printed Matter

363 Prices and Eligibility

* * * * *

4.0 Price Eligibility for Bound Printed Matter Flats

4.1 Price Eligibility

* * * Price categories are as follows:

* * * * *

[Revise item 4.1d as follows:]

d. Barcoded Discount—Flats. The barcoded discount applies to BPM flats that meet the requirements for automation flats in 301.3.0 and bear an accurate unique Intelligent Mail barcode encoded with the correct delivery point routing code and are part of a full-service mailing under 705.24.0. See 6.1 for more information.

* * * * *

6.0 Additional Eligibility Standards for Barcoded Bound Printed Matter Flats

6.1 Basic Eligibility Standards for Barcoded Bound Printed Matter

[Revise the text of 6.1 as follows:]

The barcode discount applies only to BPM flat-size pieces meeting the standards under 301.3.0 and that bear a unique Intelligent Mail barcode encoded with the correct delivery point routing code, matching the delivery address and meeting the standards in 302.5.0 and 708.4.0. The pieces must be part of a full-service nonpresorted mailing of 50 or more flat-size pieces or part of a full-service Presorted mailing of at least 300 BPM flats prepared under 365.7.0, 705.8.0, 705.14.0, and 705.24.0. The barcode discount is not available for flats mailed at Presorted DDU prices or carrier route prices.

* * * * *

[Delete current 6.2 in its entirety and renumber current 6.3 through 6.4 as new 6.2 through 6.3.]

* * * * *

500 Additional Mailing Services

503 Extra Services

* * * * *

[Revise the title of 15.0 as follows:]

15.0 Intelligent Mail Barcode Tracing

* * * * *

15.1 Basic Information

* * * * *

15.1.1 General Information

[Revise the text of 15.1.1 as follows:]

Participation in Intelligent Mail barcode (IMb) Tracing service is available at no charge without a subscription. Requirements for participation in IMb Tracing include: The use of an IMb on mailpieces entered as part of a full-service mailing under 705.24.0, the use of a Mailer Identifier that has been registered (through the Business Customer Gateway, accessible on usps.com) to receive scan data, and verification by the Postal Service that the IMb as printed meets all applicable postal standards.

* * * * *

700 Special Standards

* * * * *

705 Advanced Preparation and Special Postage Payment Systems

* * * * *

[Revise the title of 24.0 as follows:]

24.0 Full-Service Automation Standards

24.1 Description

* * * [Add a new last sentence at the end of the current text of 24.1 as follows:]

Full-service automation mailings may include automation-compatible pieces without barcodes, with POSTNET barcodes, or with Intelligent Mail barcodes. Mailings of full-service automation letters must not be comingled in the same tray with automation-compatible pieces without barcodes, with POSTNET barcodes, or with non-full-service Intelligent Mail barcodes, and these pieces will not be used to meet the eligibility standards for full-service or receive associated benefits.

[Delete current 24.1.1 and 24.1.2 in their entirety.]

24.2 General Eligibility Standards

[Revise the introductory paragraph of 24.2 as follows:]

First-Class Mail, Periodicals, and Standard Mail letters and flats and Bound Printed Matter flats meeting eligibility requirements for automation or carrier route prices, except for Standard Mail ECR saturation flats or Standard Mail ECR letters paying nonautomation prices, are eligible for full-service automation prices. All pieces entered under the full-service automation pricing must:

* * * * *

[Revise item 24.2c as follows:]

c. Be part of a mailing using unique Intelligent Mail container barcodes on all destination-entry pallets and other containers prepared under 8.0 or as part of a customer/supplier agreement. Pallets or approved alternate containers, with unique Intelligent Mail container barcodes, also must be used whenever a mailing is entered at the dock of a USPS-processing facility and meets minimum container/pallet volume requirements. A customer/supplier agreement is authorized with a service agreement signed by the mailer, the USPS District Manager, Customer Service, and the USPS Processing and Distribution Center manager. The service agreement contains provisions regarding mailer and USPS responsibilities.

* * * * *

24.4 Preparation

* * * * *

24.4.2 Intelligent Mail Tray Labels

* * * [Revise the second sentence of 24.4.2 as follows:]

Mailing documentation, when required, must associate each mailpiece to a corresponding tray or sack, or to a logical tray or sack, as described in 24.4.4.

* * * * *

24.4.3 Intelligent Mail Container Placards

* * * * *

[Revise the second sentence of 24.4.3 as follows:]

Mailing documentation, when required, must associate each mailpiece (and tray or sack, if applicable) to a corresponding container (or a logical container) as described in 24.4.4, unless otherwise authorized by the USPS.

* * * * *

24.4.4 eDoc

[Revise the text of 24.4.4 as follows:]

Mailers must electronically submit postage statements and mailing documentation to the PostalOne! system. Unless otherwise authorized, documentation must describe how each mailpiece is linked to a uniquely identified tray or sack and how each mailpiece and tray or sack is linked to a uniquely identified container. Linking to logical trays, sacks, and containers via sibling records is an option when linking to a specific tray, sack, or container is not feasible. The documentation also must meet the requirements in A Guide to Intelligent Mail for Letters and Flats (at ribbs.usps.gov). Mailers must transmit postage statements and documentation to the PostalOne! system using Mail.dat, Mail.XML, or Postal Wizard (see 24.5.3), except that mailers of Periodicals letters and flats and Bound Printed Matter flats must electronically submit postage statements and documentation in all instances.

* * * * *

707 Periodicals

* * * * *

14.0 Barcoded (Automation) Eligibility

14.1 Basic Standards

[Revise the introductory text of 14.1 as follows:]

All pieces in a Periodicals barcoded (automation) mailing must meet the full-service standards in 705.24.0 and:

* * * * *

[Revise the first sentence of item 14.1c as follows:]

c. Bear an accurate unique Intelligent Mail barcode encoded with the correct delivery point routing code, matching the delivery address and meeting the standards in 202.5.0 (for letters), 302.4.0 (for flats), and 708.4.0, either on the piece or on an insert showing through a window.

* * * * *

14.2 Eligibility Standards for Full-Service Automation Periodicals

[Revise the introductory text of 14.2 as follows:]

All pieces entered under the full-service automation standards must:

* * * * *

[Revise item 14.2b as follows:]

b. Be part of a mailing that meets the standards in 705.24.0.

* * * * *

708 Technical Specifications

* * * * *

6.0 Standards for Barcoded Tray Labels, Sack Labels, and Container Placards

6.1 General

6.1.1 Tray and Sack Labels

[Revise the text of 6.1.1 as follows:]

Intelligent Mail tray labels are the USPS-approved method to encode routing, content, origin, and mailer information on trays and sacks. Intelligent Mail tray labels are designed for optimum use with Intelligent Mail barcoded mail and have the capacity to provide unique identification throughout postal processing, but are required to be used on all trays and sacks in presorted mailings.

* * * * *

6.2 Specifications for Barcoded Tray and Sack Labels

* * * * *

6.2.2 Line 1 (Destination Line)

The destination line must meet these standards:

a. Placement. The destination line must be the top line of the label. An exception is that one line of extraneous information may appear above the destination line on tray and sack labels as provided in 6.3.2, and 6.3.2f. The destination line must be completely visible when placed in the label holder. This visibility is ensured if the destination line is no less than ⅛ (0.125) inch below the top of the label when the label is cut and prepared.

[Delete Exhibit 6.2.2a, Barcoded 2-inch Sack Labels, in its entirety.]

* * * * *

[Delete Exhibit 6.2.2b, Barcoded 1-inch Sack Labels, in its entirety.]

* * * * *

6.2.5 Line 3 (Origin Line)

[Revise the first sentence of 6.2.5 as follows:]

The origin line must appear below the content line, except as allowed under 6.3.4 and 6.2.5a and 6.2.5b. * * *

* * * * *

[Delete current 6.3, Additional Standards—Barcoded 2-Inch Sack Labels and Barcoded Tray Labels, and 6.4, Additional Standards—Barcoded 1-Inch Sack Labels, in their entirety.]

* * * * *

[Renumber current 6.5 as new 6.3 and revise the title as follows:]

6.3 Specific Standards for Intelligent Mail Tray Labels

6.3.1 Definitions

[Revise the text of renumbered 6.3.1 as follows:]

Intelligent Mail tray labels are 2-inch labels used on trays and sacks to provide unique identification within postal processing. 24-digit Intelligent Mail tray labels include only a 24 digit barcode printed in International Symbology Specification (ISS) Code 128 subset C symbology (see Exhibit 6.3.3). Intelligent Mail tray labels also include a human readable field designed to indicate the carrier route for carrier route mailings, display an “AUTO” indicator text for automation mailings, or remain blank for nonautomation mailings. Mailers using Intelligent Mail tray labels must print labels in the 24-digit Intelligent Mail tray label format. Detailed specifications for the tray label and barcode formats are at http://ribbs.usps.gov.

[Delete current Exhibit 6.5.1, 10/24 Transitional Intelligent Mail Tray Label, in its entirety.]

[Delete current 6.5.2, Transitional Intelligent Mail Tray Label Format, in its entirety.]

[Renumber current 6.5.3 through 6.5.7 as new 6.3.2 through 6.3.6.]

* * * * *

We will publish an appropriate amendment to 39 CFR part 111 to reflect these changes if our proposal is adopted.

Stanley F. Mires,
Attorney, Legal Policy & Legislative Advice.

[FR Doc. 2012-25551 Filed 10-16-12; 8:45 am]

BILLING CODE 7710-12-P